ENVIRONMENTAL PROTECTION AGENCY

[FRL-8523-1]

Science Advisory Board Staff Office; Notification of a Meeting of the Science Advisory Board

AGENCY: Environmental Protection Agency (EPA).

ACTION: Notice.

SUMMARY: The EPA Science Advisory Board (SAB) Staff Office announces a public face-to-face meeting of the chartered SAB to: (1) Discuss EPA's research budget for Fiscal Year 2009; (2) Agency long-term research directions and priorities; (3) conduct a quality review of the Draft SAB Advisory on EPA's “Report on the Environment 2007: Science Report”; and (4) continue planning for upcoming SAB meetings.

DATES: The meeting dates are Thursday, February 28, 2008, from 8:30 a.m. to 5:30 p.m. through Friday, February 29, 2008, from 8:30 a.m. to 2:00 p.m. (Eastern Time).

ADDRESSES: The meeting will be held at the Westin Arlington Gateway, 801 N. Glebe Road, Arlington, VA 22203; phone (703) 717-6200.

FOR FURTHER INFORMATION CONTACT: Members of the public who wish to obtain further information about this meeting may contact Mr. Thomas O. Miller, Designated Federal Officer (DFO), by mail at EPA SAB Staff Office, (1400F), U.S. EPA, 1200 Pennsylvania Avenue, NW., Washington, DC 20460; by telephone at (202) 343-9982; by fax at (202) 233-0643; or by e-mail at: miller.tom@epa.gov. General information about the SAB, as well as any updates concerning the meeting announced in this notice, may be found on the SAB Web Site at: http://www.epa.gov/sab.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: The purpose of this meeting will be to allow the SAB to discuss with Agency representatives the research priorities that are a component of the Fiscal Year 2009 research budget. The SAB conducts a review of the EPA research budget each year and as a result of discussions and evaluations that are a part of this review, provides written advice to the EPA Administrator and testimony to the U.S. Congress on how that budget might contribute to the achievement of EPA's overall research goals.

The SAB will also conduct a quality review of one draft SAB Committee report, SAB Advisory on EPA's “Report on the Environment 2007: Science Report.” The EPA Report on the Environment (ROE) 2007 addresses key questions about the current status of and trends in the condition of the environment and human health. These questions are intended to be relevant to EPA's current regulatory and programmatic activities and mission. In its review, the SAB was asked to comment on: (1) The adequacy of the formulation and scope of the questions addressed in the ROE 2007 Science Report, (2) the appropriateness of the indicators used to answer the questions in the report, (3) the accuracy of the characterization of gaps and limitations in the indicators used in the report, (4) the appropriateness of regionalization of national indicators in the report, (5) the utility of regional indicators in the report, and (6) the overall quality of the report with respect to technical accuracy, clarity, and appropriateness of level of communication. Additional information on this review can be found in the announcement of the review in the Federal Register (see FR 72 29498-29499 of May 29, 2007) and the EPA SAB Web Site at: http://yosemite.epa.gov/sab/sabproduct.nsf/02ad90b136fc21ef85256eba00436459/2457aac81d2003a98525701900616b47!OpenDocument.

Availability of Meeting Materials: Materials in support of this meeting will be placed on the SAB Web Site at: http://www.epa.gov/sab in advance of this meeting.

Procedures for Providing Public Input: Interested members of the public may submit relevant written or oral information for the SAB to consider on the topics included in this advisory activity and/or the group conducting the activity.

Oral Statements: In general, individuals or groups requesting an oral presentation at a public meeting will be limited to five minutes per speaker, with no more than one hour for all speakers. Interested parties should contact Mr. Miller, DFO, at the contact information provided above, by February 21, 2008, to be placed on the public speaker list for the February 28-29, 2008 meeting. Written Statements: Written statements should be received in the SAB Staff Office by February 14, 2008, so that the information may be made available to the SAB for their consideration prior to this meeting. Written statements should be supplied to the DFO via e-mail to miller.tom@epa.gov (acceptable file format: Adobe Acrobat PDF, WordPerfect, MS Word, MS PowerPoint, or Rich Text files in IBM-PC/Windows 98/2000/XP format).

Accessibility: For information on access or services for individuals with disabilities, please contact Mr. Thomas Miller at (202) 343-9982, or via e-mail at miller.tom@epa.gov. To request accommodation of a disability, please contact Mr. Miller, preferably at least 10 days prior to the meeting, to give EPA as much time as possible to process your request.

Dated: January 24, 2008.
Anthony Maciorowski,
Deputy Director, EPA Science Advisory Board Staff Office.

[FR Doc. E8-1793 Filed 1-30-08; 8:45 am]

BILLING CODE 6560-50-P